DEPARTMENT OF HOMELAND SECURITY

Coast Guard

33 CFR Part 117

[Docket No. USCG-2018-0729]

Drawbridge Operation Regulation; Atlantic Intracoastal Waterway, Fort Pierce, FL

AGENCY: Coast Guard, DHS.

ACTION: Notice of temporary deviation from regulations; request for comments.

SUMMARY: The Coast Guard has issued a temporary deviation from the operating schedule that governs the Fort Pierce North Causeway A1A Bridge (Banty Sanders) across the Atlantic Intracoastal Waterway (AICW), mile 964.8 at Fort Pierce, St. Lucie County, FL. This deviation will be a second test of a change to the drawbridge operation schedule to determine whether a permanent change to the schedule is needed. This test deviation will modify the existing deviation to allow the bridge scheduled openings.

DATES: This deviation is effective without actual notice from March 21, 2019 through August 26, 2019 at 7 a.m. For the purposes of enforcement, actual notice will be used from February 28, 2019 at 7 a.m., until March 21, 2019.

Comments and related material must reach the Coast Guard on or before June 1, 2019.

ADDRESSES: You may submit comments identified by docket number USCG-2018-0729 using Federal eRulemaking Portal at http://www.regulations.gov.

See the “Public Participation and Request for Comments” portion of the SUPPLEMENTARY INFORMATION section below for instructions on submitting comments.

FOR FURTHER INFORMATION CONTACT: If you have questions on this test deviation, call or email LT Samuel Rodriguez-Gonzalez, Sector Miami Waterways Management Division, U.S. Coast Guard; telephone 305-535-4307, email Samuel.Rodriguez-Gonzalez@uscg.mil.

SUPPLEMENTARY INFORMATION:

I. Background, Purpose and Legal Basis

On August 30, 2018, the Coast Guard published a Test Deviation entitled “Drawbridge Operation Regulation; Atlantic Intracoastal Waterway, Fort Pierce, FL” in the Federal Register (83 FR 44233). We received 113 comments.

The Florida Department of Transportation (FDOT) owns the Fort Pierce North Causeway A1A Bridge (Banty Sanders) across the AICW, mile 964.8 in Fort Pierce, St. Lucie County, FL. The bridge has a vertical clearance of 26 feet at mean high water in the closed position and a horizontal clearance of 90 feet. The bridge currently operates under 33 CFR 117.5.

The duration of the initial test deviation was 180 days. During the initial test, the majority of comments received were in support of scheduled openings. However, most felt that the bridge was still opening too frequently. A review of the bridge tender logs did not support the claim that the bridge was opening too frequently. The logs did show, however, that openings tended to be twice per hour as opposed to three times per hour. In addition, the majority of comments recommended scheduled openings during the evening and on weekends.

In order to meet the reasonable needs of navigation, while benefiting vehicle transportation, the Coast Guard is publishing this alternate temporary deviation to the proposed schedule change to determine whether a permanent change to the schedule is appropriate to better balance the needs of marine and vehicle traffic.

Under this temporary deviation, in effect from 7 a.m. on February 28, 2019 to 7 a.m. on August 26, 2019, the draw shall open on the hour and half-hour. Vessels in distress, public vessels of the United States, and tugs with tows must be passed at any time.

This waterway is utilized by vessels of the United States, commercial vessels, as well as recreational vessels. There is no alternate route for vessels desiring to travel north in the AICW. Vessels that may pass through the bridge without a requested opening may do so at any time.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notification as being available in this docket and all public comments, will be in our online docket at http://www.regulations.gov and can be viewed by following that website's instructions. Additionally, if you go to the online docket and sign up for email alerts, you will be notified when comments are posted or a final rule is published.

Dated: March 18, 2019.
Barry Dragon,
Director, Bridge Branch, Seventh Coast Guard District.

[FR Doc. 2019-05413 Filed 3-20-19; 8:45 am]

BILLING CODE 9110-04-P